DEPARTMENT OF HOUSING AND URBAN DEVELOPMENT

24 CFR Part 883

[Docket No. FR-4532-C-02]

RIN 2502-AH46

Increased Distributions to Owners of Certain HUD-Assisted Multifamily Rental Projects; Correction

AGENCY: Office of the Assistant Secretary for Housing—Federal Housing Commissioner, HUD.

ACTION: Final rule; technical correction.

SUMMARY: This document makes a technical amendment to the final rule that was published October 13, 2000 (65 FR 61072), which adds an exception to current limits on distributions to owners for HUD-assisted multifamily rental projects.

EFFECTIVE DATE: November 13, 2000.

FOR FURTHER INFORMATION CONTACT: Willie Spearmon, Director, Office of Housing Assistance and Grants Administration, Department of Housing and Urban Development, 451 7th St. SW., Washington DC 20410, 202-708-2866. (This not a toll-free number.) For hearing- and speech-impaired persons, these numbers may be accessed via TTY by calling the Federal Information Relay Service at 1-800-877-8339.

SUPPLEMENTARY INFORMATION: On October 13, 2000 (65 FR 61072), HUD published a final rule adding an exception to current limits on distributions to owners for HUD-assisted multifamily rental projects. Two errors in part 883 of the final rule need correction.

Accordingly, FR Doc. 00-26247, Increased Distributions to Owners of Certain HUD-Assisted Multifamily Rental Projects, published in the Federal Register on October 13, 2000 (65 FR 61072), is corrected as follows:

1. On page 61075, first column, in instruction 11, correct part “881” to read “883”.

2. On page 61075, first column, correct the heading for “§ 883.205” to read “§ 883.306.”

Camille E. Acevedo,
Associate General Counsel for Legislation and Regulations.

[FR Doc. 00-29098 Filed 11-14-00; 8:45 am]

BILLING CODE 4210-27-P